DEPARTMENT OF JUSTICE

Notice of Lodging of Proposed Consent Decree Under the Clean Water Act and Safe Drinking Water Act

On September 28, 2012, the Department of Justice lodged a proposed Consent Decree with the United States District Court for the Eastern District of Pennsylvania in the lawsuit entitled United States et al. v. GSP Management Company, et al., Civil Action No. 12-5553.

The Consent Decree resolves alleged violations of the Clean Water Act and Safe Drinking Water Act at mobile home parks operated by defendants in Pennsylvania, Delaware and Virginia. The defendants treat sewage and provide drinking water at a number of its mobile home parks and illegally discharged sewage, failed to properly operate and maintain treatment facilities, exceeded federal drinking water standards for certain pollutants and failed to notify residents about drinking water problems. The Consent Decree requires payment of a civil penalty of $1,339,000, hiring a third party environmental consultant to perform environmental audits at each mobile home park, implementing corrective measures, conducting regular inspections, and developing a company-wide environmental management system.

The publication of this notice opens a period for public comment on the Consent Decree. Comments should be addressed to the Assistant Attorney General, Environment and Natural Resources Division, and should refer to United States et al. v. GSP Management Company, et al. D.J. Ref. No. 90-5-1-1-10286. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $15.25 for a paper copy of the Consent Decree without the exhibits, and $52.00 for a paper copy of the Consent Decree and all exhibits (25 cents per page reproduction cost) payable to the United States Treasury.

Robert Brook,
Assistant Section Chief, Environmental Enforcement Section, Environment and Natural Resources Division.

[FR Doc. 2012-24537 Filed 10-4-12; 8:45 am]

BILLING CODE 4410-15-P